DEPARTMENT OF HEALTH AND HUMAN SERVICES

National Institutes of Health

National Heart, Lung, and Blood Institute; Amended Notice of Meeting

Notice is hereby given of a change in the meeting of the National Heart, Lung, and Blood Institute Special Emphasis Panel, New Strategies for Growing 3D Tissues, which was published in the Federal Register on February 15, 2011, FR 2011-3373.

The meeting was originally advertised for March 9-10, 2011. The meeting will take place on March 9, 2011 only. The meeting is closed to the public.

Dated: February 23, 2011.
Jennifer S. Spaeth,
Director, Office of Federal Advisory Committee Policy.

[FR Doc. 2011-4547 Filed 2-28-11; 8:45 am]

BILLING CODE 4140-01-P